DEPARTMENT OF TRANSPORTATION

Federal Aviation Administration

14 CFR Part 71

[Docket No. FAA-2024-2513; Airspace Docket No. 24-ASO-14]

RIN 2120-AA66

Amendment of Domestic Very High Frequency Omnidirectional Range (VOR) Federal Airways V-7, V-35, V-157, V-159, and V-198; Eastern United States

AGENCY: Federal Aviation Administration (FAA), DOT.

ACTION: Notice of proposed rulemaking (NPRM).

SUMMARY: This action proposes to amend domestic Very High Frequency Omnidirectional Range (VOR) Federal Airways V-7, V-35, V-157, V-159, and V-198 in the eastern United States. The FAA is taking this action due to the planned decommissioning of the Cross City, FL (CTY), VOR/Tactical Air Navigation (VORTAC) and the Taylor, FL (TAY), VORTAC. This action is in support of the FAA's VOR Minimum Operational Network (MON) Program.

DATES: Comments must be received on or before January 10, 2025.

ADDRESSES: Send comments identified by FAA Docket No. FAA-2024-2513 and Airspace Docket No. 24-ASO-14 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it amends the route structure to maintain the efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA 30337.

Incorporation by Reference

Domestic VOR Federal airways are published in paragraph 6010(a) of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The FAA is planning to decommission the Cross City, FL (CTY), VORTAC and the Taylor, FL (TAY), VORTAC in August 2025. The Cross City VORTAC and the Taylor VORTAC are candidate navigational aids (NAVAID) identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

The Air Traffic Service (ATS) routes affected by the planned NAVAID decommissioning are VOR Federal Airways V-7, V-35, V-157, V-159, and V-198. With the planned decommissioning of the Cross City VORTAC and the Taylor VORTAC, the remaining ground-based NAVAID coverage in the area is insufficient to enable the continuity of the affected ATS routes. As such, proposed modifications to V-35 would result in the airway being shortened; to V-7 and V-159 would result in a gap being created; and to V-157 and V-198 would result in the airway being redesigned. Additionally, concurrent changes for removal of the Cross City VORTAC from VOR Federal Airways V-295 and V-521 have been proposed in a separate rulemaking docket.

To overcome the proposed modifications to the affected routes, instrument flight rules (IFR) traffic could use adjacent VOR Federal Airways V-97, V-157, V-198, V-441, V-533, and V-537 or receive air traffic control (ATC) radar vectors to fly through or circumnavigate the affected area. Additionally, IFR pilots with Area Navigation (RNAV)-equipped aircraft could also use the adjacent RNAV Routes T-205, T-210, T-323, T-336, T-341, T-349, and T-489; or navigate point-to-point using the existing fixes that will remain in place to support continued operations though the affected area. Visual flight rules (VFR) pilots who elect to navigate via airways through the affected area could also take advantage of ATC services listed previously.

The Proposal

The FAA is proposing an amendment to 14 CFR part 71 to amend domestic VOR Federal Airways V-7, V-35, V-157, V-159, and V-198 to support the planned decommissioning of the Cross City, FL, VORTAC and the Taylor, FL, VORTAC. This action is in support of the FAA's VOR MON Program.

V-7: V-7 currently extends between the Dolphin, FL (DHP), VORTAC and the Vulcan, AL, (VUZ), VORTAC; and between the Pocket City, IN (PXV), VORTAC and the intersection of the Chicago Heights, IL (CGT), VORTAC 358° and the Badger, WI (BAE), VOR/Distance Measuring Equipment (VOR/DME) 117° radials (PETTY Fix). The FAA proposes to remove the airway segments between the Lakeland, FL (LAL), VORTAC and the Seminole, FL (SZW), VORTAC due to the scheduled decommissioning of the Cross City, FL (CTY), VORTAC. As amended, the airway would be changed to extend between the Dolphin VORTAC and the Lakeland VORTAC; between the Seminole VORTAC and the Vulcan VORTAC; and between the Pocket City VORTAC and the PETTY Fix.

V-35: V-35 currently extends between the Dolphin VORTAC and the Pecan, GA (PZD), VOR/DME; between the intersection of the Dublin, GA (DBN), VORTAC 309° and the Athens, GA (AHN), VOR/DME 195° radials (SINCA Fix) and the Morgantown, WV (MGW), VOR/DME; and between the Philipsburg, PA (PSB), VORTAC and the Stonyfork, PA (SFK), VOR/DME. The FAA proposes to remove the airway segments between the St. Petersburg, FL (PIE), VORTAC and the Greenville, FL (GEF), VORTAC due to the scheduled decommissioning of the Cross City, FL (CTY), VORTAC; and remove the airway segment between the Greenville VORTAC and the Pecan VOR/DME due to the segment being no longer needed as redundant navigation capability is provided by VOR Federal Airway V-159. As amended, the airway would be changed to extend between the Dolphin VORTAC and the St. Petersburg VORTAC; between the SINCA Fix and the Morgantown VOR/DME; and between the Philipsburg VORTAC and the Stonyfork VOR/DME. Concurrent changes to other segments of V-35 have been proposed in a separate rulemaking docket.

V-157: V-16 currently extends between the Key West, FL (EYW), VORTAC and the Waycross, GA (AYS), VORTAC; between the Florence, SC (FLO), VORTAC and the Tar River, NC (TYI), VORTAC; and between the Robbinsville, NJ (RBV), VORTAC and the Albany, NY (ALB), VORTAC. The FAA proposes to remove the airway segments between the Ocala, FL (OCF), VORTAC and the Waycross VORTAC and replace it with the Gators, FL (GNV), VORTAC; the intersection of the Gators VORTAC 343° True (T)/347° Magnetic (M) and the Waycross VORTAC 180°T/180°M radials; Waycross VORTAC due to the scheduled decommissioning of the Taylor, FL (TAY), VORTAC. Additionally, The FAA proposes to extend VOR Federal Airway V-157 to the North between the Waycross VORTAC and the Dublin, GA (DBN), VORTAC due to a need by the Department of Defense for navigation capability between the Ocala, FL, and the Dublin, GA, area. As amended, the airway would be changed to extend between the Key West VORTAC and the Dublin VORTAC; between the Florence VORTAC and the Tar River VORTAC; and between the Robbinsville VORTAC and the Albany VORTAC. Concurrent changes to other segments of V-157 have been proposed in a separate rulemaking docket.

V-159: V-159 currently extends between the Virginia Key, FL (VKZ), VOR/DME and the Vulcan, AL (VUZ), VORTAC; and between the Holly Springs, MS (HLI), VORTAC and the Omaha, IA (OVR), VORTAC. The FAA proposes to remove the airway segments between the Ocala, FL (OCF), VORTAC and the Greenville, FL (GEF), VORTAC due to the scheduled decommissioning of the Cross City, FL (CTY), VORTAC. As amended, the airway would be changed to extend between the Virginia Key VOR/DME and the Ocala VORTAC; between the Greenville VORTAC and the Vulcan VORTAC; and between the Holly Springs VORTAC and the Omaha VORTAC. Concurrent changes to other segments of V-159 have been proposed in a separate rulemaking docket.

V-198: V-198 currently extends between the San Simon, AZ (SSO), VORTAC and the San Antonio, TX (SAT), VORTAC; and between the Sabine Pass, TX (SBI), VOR/DME and the Craig, FL (CRG), VORTAC. The FAA proposes to remove the Taylor, FL (TAY), VORTAC from the route and replace it with the intersection of the Greenville, FL (GEF), VORTAC 092° T/091°M and the Craig VORTAC 287°T/290°M radials due to the scheduled decommissioning of the Taylor VORTAC. The FAA also proposes to remove multiple altitude floor restrictions in the route description of VOR Federal Airway V-198 as they are no longer necessary. As amended the route would continue to extend between the San Simon VORTAC and the San Antonio VORTAC; and between the Sabine Pass VOR/DME and the Craig VORTAC.

The full descriptions of the above routes are set forth below in the proposed amendments to part 71. The NAVAID radials listed in the VOR Federal airway description regulatory text of this NPRM are stated in degrees True north. Additionally, minor editorial corrections to the airway descriptions are made to comply with ATS route formatting requirements.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6010(a). Domestic VOR Federal Airways.

* * * * *

V-7 [Amended]

From Dolphin, FL; INT Dolphin 299° and Lee County, FL, 120° radials; Lee County; to Lakeland, FL. From Seminole, FL; Wiregrass, AL; INT Wiregrass 333° and Montgomery, AL, 129° radials; Montgomery; to Vulcan, AL. From Pocket City, IN; INT Pocket City 016° and Terre Haute, IN, 191° radials; Terre Haute; Boiler, IN; Chicago Heights, IL; to INT Chicago Heights 358° and Badger, WI, 117° radials.

* * * * *

V-35 [Amended]

From Dolphin, FL; INT Dolphin 266° and Cypress, FL, 110° radials; INT Cypress 110° and Lee County, FL, 138° radials; Lee County; INT Lee County 326° and St. Petersburg, FL, 152° radials; to St. Petersburg; From INT Dublin, GA, 309° and Athens, GA, 195° radials; Athens; Electric City, SC; Sugarloaf Mountain, NC; Holston Mountain, TN; Glade Spring, VA; Charleston, WV; INT Charleston 051° and Elkins, WV, 264° radials; Clarksburg, WV; to Morgantown, WV. From Philipsburg, PA; to Stonyfork, PA.

* * * * *

V-157 [Amended]

From Key West, FL; INT Key West 038° and Dolphin, FL, 244° radials; Dolphin; INT Dolphin 331° and La Belle, FL, 113° radials; La Belle; Lakeland, FL; Ocala, FL; Gators, FL; INT Gators 343° T/347° M and Waycross, GA 180° T/180° M radials; Waycross; to Dublin, GA. From Florence, SC; Fayetteville, NC; Kinston, NC; to Tar River, NC. From Robbinsville, NJ; INT Robbinsville 044° and LaGuardia, NY, 213° radials; LaGuardia; INT LaGuardia 032° and Deer Park, NY, 326° radials; INT Deer Park 326° and Kingston, NY, 191° radials; Kingston; to Albany, NY.

* * * * *

V-159 [Amended]

From Virginia Key, FL: INT Virginia Key 344° and Treasure, FL, 178° radials; Treasure; INT Treasure 318° and Orlando, FL, 140° radials; Orlando; to Ocala, FL. From Greenville, FL; Pecan, GA; Eufaula, AL; INT Eufaula 320° and Vulcan, AL 139° radials to Vulcan. From Holly Springs, MS; Gilmore, AR; Walnut Ridge, AR; Dogwood, MO; Springfield, MO; Napoleon, MO; INT Napoleon 005° and St. Joseph, MO, 122° radials; St. Joseph; to Omaha, IA.

* * * * *

V-198 [Amended]

From San Simon, AZ; Columbus, NM; El Paso, TX; 6 miles wide INT El Paso 109° and Hudspeth, TX, 287° radials; 6 miles wide Hudspeth; INT Hudspeth 109° and Fort Stockton, TX, 284° radials; Fort Stockton; Junction, TX; to San Antonio, TX. From Sabine Pass, TX; White Lake, LA; Tibby, LA; Harvey, LA; Brookley, AL; INT Brookley 056° and Crestview, FL, 266° radials; Crestview; Marianna, FL; Seminole, FL; Greenville, FL; INT Greenville 092° T/091° M and Craig, FL, 287° T/290° M radials; to Craig.

* * * * *

Issued in Washington, DC, on November 20, 2024.
Richard Lee Parks,
Manager (A), Rules and Regulations Group.

[FR Doc. 2024-27560 Filed 11-25-24; 8:45 am]

BILLING CODE 4910-13-P